DEPARTMENT OF COMMERCE

Bureau of Census

Request for Nominations of Members To Serve on the Census Advisory Committee on the Asian Population

AGENCY: Bureau of the Census, Commerce.

ACTION: Notice of request for nominations.

SUMMARY: The Bureau of the Census (Census Bureau) is requesting nominations of individuals to the Census Advisory Committee on the Asian Population. The Census Bureau will consider nominations received in response to this notice as well as from other sources. The SUPPLEMENTARY INFORMATION section of this notice provides Committee and membership criteria.

DATES: Please submit nominations by April 15, 2005.

ADDRESSES: Please submit nominations to Edwina Jaramillo, Race and Ethnic Advisory Committee Program Coordinator, Census Advisory Committee Office, U.S. Census Bureau, Room 3627, Federal Building 3, 4700 Silver Hill Road, Washington, DC 20233. Nominations also may be submitted via fax at 301-457-8608, or e-mail to edwina.martha.jaramillo@census.gov.

FOR FURTHER INFORMATION CONTACT: Edwina Jaramillo, Race and Ethnic Advisory Committee Program Coordinator, Census Advisory Committee Office, U.S. Census Bureau, Room 3627, Federal Building 3, 4700 Silver Hill Road, Washington, DC 20233, telephone (301) 763-4047.

SUPPLEMENTARY INFORMATION: The Committee was established in accordance with the Federal Advisory Committee Act (Title 5, United States Code, Appendix 2) in 2000. The following provides information about the Committee, membership, and the nomination process.

Objectives and Duties:

1. The Committee provides an organized and continuing channel of communication between Asian communities and the Census Bureau. Committee members identify useful strategies to reduce the differential undercount for the Asian population, and on ways data can be disseminated for maximum usefulness to the Asian population.

2. The Committee draws upon prior decennial census activities, research studies, test censuses, and other experiences to provide advice and recommendations for the 2010 Census, the American Community Survey, and related decennial programs.

3. The Committee functions solely as an advisory body under the Federal Advisory Committee Act.

4. The Committee reports to the Director of the Census Bureau.

Membership:

1. Members are appointed by and serve at the discretion of the Secretary of Commerce.

2. Members are appointed to the nine-member Committee for a period of three years. Members will be reevaluated at the conclusion of the three-year term with the prospect of renewal, pending Advisory Committee needs and the Secretary's concurrence. Committee members are selected in accordance with applicable Department of Commerce guidelines. The Committee aims to have a balanced representation, considering such factors as geography, gender, and technical expertise, community involvement and knowledge of census procedures and activities. The Committee aims to include members from diverse backgrounds, including state and local governments, academia, media, research, community-based organizations, and the private sector. No employee of the Federal government can serve as a member of the Committee, nor can a member serve on existing census consultation or advisory groups. Meeting attendance and active participation in the activities of the Advisory Committee are essential for sustained Committee membership.

Miscellaneous:

1. Members of the Committee serve without compensation, but receive reimbursement for committee-related travel and lodging expenses.

2. The Committee meets at least once a year, budget permitting, but additional meetings may be held as deemed necessary by the Census Director or Designated Federal Official. All Committee meetings are open to the public in accordance with the Federal Advisory Committee Act.

Nomination Information:

1. Nominations are requested as described above.

2. Nominees should have expertise and knowledge of the cultural patterns and issues and/or data needs of Asian communities. Such knowledge and expertise are needed to provide advice and recommendations to the Census Bureau on how best to enumerate the Asian population and obtain complete and accurate data on these populations. Individuals, groups, or organizations may submit nominations on behalf of a potential candidate. A summary of the candidate's qualifications (resumé or curriculum vitae) must be included along with the nomination letter. Nominees must have the ability to participate in Advisory Committee meetings and tasks. Besides Committee meetings, active participation may include committee assignments and participation in conference calls and working groups.

3. The Department of Commerce is committed to equal opportunity in the workplace and seeks diverse Committee membership.

Dated: March 21, 2005.
Charles Louis Kincannon,
Director, Bureau of the Census.

[FR Doc. 05-5948 Filed 3-24-05; 8:45 am]

BILLING CODE 3510-07-P